DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: April 30, 2007, 8:30 a.m.- 5 p.m.; and May 1, 2007, 8:30 a.m.-2:30 p.m.

Place: Hilton Washington, DC/Rockville Executive Meeting Center, 1750 Rockville Pike, Rockville, Maryland 20852-1699.

Status: The meeting will be open to the public.

Agenda: The agenda for April 30 in the morning will include: Welcome and opening comments from the Chair and Executive Secretary of COGME and senior management staff of the Health Resources and Services Administration.

On April 30, following the welcoming remarks from the COGME Chair, the Executive Secretary of COGME, and Agency senior management, there will be a review and discussion of the draft paper “Enhancing GME Flexibility,” by Barbara Chang, M.D., and other writing group members. After lunch there will be a review and discussion of the draft paper “New Paradigms for Physician Training for Improving Access to Healthcare” by Earl Reisdorff, M.D. and other writing group members. At 3 p.m. there will be a breakout of Council members into the two draft writing groups for further report revisions.

On May 1 there will be reports to the Council and further discussion on writing group activities and reports. The Council will conclude with a discussion of the timeframe and next steps for producing the Reports.

Agenda items are subject to change as priorities dictate.

FOR FURTHER INFORMATION CONTACT: Jerald M. Katzoff, Executive Secretary, COGME, Division of Medicine and Dentistry, Bureau of Health Professions, Parklawn Building, Room 9A-27, 5600 Fishers Lane, Rockville, Maryland 20857, Telephone (301) 443-6785.

Dated: April 2, 2007.
Caroline Lewis,
Acting Associate Administrator for Administration and Financial Management.

[FR Doc. E7-6597 Filed 4-6-07; 8:45 am]

BILLING CODE 4165-15-P